DEPARTMENT OF HOMELAND SECURITY

Coast Guard

[USCG-2005-22821]

National Boating Safety Activities: Funding for National Nonprofit Public Service Organizations

AGENCY: Coast Guard, DHS.

ACTION: Notice of funds availability.

SUMMARY: The Coast Guard seeks applications for fiscal year 2006 grants and cooperative agreements from national, nongovernmental, nonprofit public service organizations. The Boating Safety Financial Assistance Program is listed in section 97.012 of the Catalog of Federal Domestic Assistance. These grants and cooperative agreements would be used to fund projects on various subjects promoting recreational boating safety on the national level. This notice provides information about the grant and cooperative agreement application process and some of the subjects of particular interest to the Coast Guard.

DATES: Application packages may be obtained on or after November 1, 2005. Proposals for the fiscal year 2006 grant cycle must be received before 3 p.m. Eastern time, January 23, 2006.

ADDRESSES: Application packages may be obtained by calling the Coast Guard Infoline at 800-368-5647. Submit proposals to: Commandant (G-OPB-1), U.S. Coast Guard Headquarters, 2100 Second Street SW., Room 3100, Washington, DC 20593-0001. This notice is available from the Coast Guard Infoline and on the Internet at http://dms.dot.gov in docket USCG-2005-22821 or at the Web site for the Office of Boating Safety at http://www.uscgboating.org.

FOR FURTHER INFORMATION CONTACT: Ms. Vickie Hartberger, Office of Boating Safety, U.S. Coast Guard (G-OPB-1/Room 3100), 2100 Second Street, SW., Washington, DC 20593-0001; 202-267-0974. The points of contact for the seven project areas of particular interest are listed at the end of the description of each project area.

SUPPLEMENTARY INFORMATION: Title 46, United States Code, Section 13103, allocates funds available from the Aquatic Resources Trust Fund for boating safety grants. The majority of funds are allocated to the States, and up to 5 percent of these funds may be distributed by the Coast Guard for grants and cooperative agreements for national recreational boating safety activities of national nonprofit public service organizations. It is anticipated that approximately $4,750,000 will be made available for fiscal year 2006. Thirty-one awards totaling $2,950,000 were made in fiscal year 2005 ranging from $7,000 to $495,000. Nothing in this announcement should be construed as committing the Coast Guard to dividing available funds among qualified applicants or awarding any specified amount.

It is anticipated that several awards will be made by the U.S. Coast Guard. Applicants must be national, nongovernmental, nonprofit public service organizations and must establish that their activities are, in fact, national in scope. An application package may be obtained by writing or calling the point of contact listed in ADDRESSES on or after November 1, 2005. The application package contains all necessary forms, an explanation of how the grant program is administered, and a checklist for submitting a grant application. Specific information on organization eligibility, proposal requirements, award procedures, and financial administration procedures may be obtained by contacting the person listed in FOR FURTHER INFORMATION CONTACT.

Prospective grantees may propose up to a 5-year grant with 12-month (fiscal year) increments. In effect, an award would be made for the first year and thereafter renewal is optional. Each annual increment would not be guaranteed. Under a continuation (multi-year) type of award, the Coast Guard agrees to support a grant project at a specific level of effort for a specified period of time, with a statement of intention to provide additional future support, provided funds are available, the project continues to support the needs of the government, and the achieved results warrant further support. Award of continuation grants will be made on a strict case-by-case basis to assist planning in certain large-scale projects and ensure continuity. Procedures also provide for awarding noncompetitive grants or cooperative agreements on a case-by-case basis. This authority is judiciously used to fund recurring annual projects or events which can only be carried out by one organization, and projects that present targets of opportunity for timely action on new or emerging program requirements or issues.

The following list includes items of specific interest to the Coast Guard; however, potential applicants should not be constrained by the list. We welcome any initiative that supports the organizational objectives of the Recreational Boating Safety Program to save lives, reduce the number of boating accidents, injuries and property damage, and lower associated health care costs. Some project areas of continuing and particular interest for grant funding include the following:

1. Develop and Conduct a National Annual Safe Boating Campaign. The Coast Guard seeks a grantee to develop and conduct the 2007 National Annual Safe Boating Campaign that targets specific boater market segments and recreational boating safety topics. This year-round campaign must support the organizational objectives of the National Recreational Boating Safety Program and the nationwide grassroots activities of the many volunteer groups who coordinate local media events, education programs, and public awareness activities, as well as complement the Coast Guard “You're In Command. Boat Responsibly!” campaign. The major focus of the campaign will be to affect the behavior of all boaters with special focus on boat operators being responsible for their own safety as well as the safety of their passengers. A significant emphasis should be placed on life jacket wear, boater education, safety and security issues, propeller injury prevention, and the dangers of carbon monoxide, as well as boating under the influence of alcohol or drugs. Efforts will also be coordinated, year-round, with other national safety activities and special media events. Point of Contact: Ms. Jo Calkin, 202-267-0994.

2. Develop and Conduct a National Recreational Boating Safety Outreach and Awareness Conference. The Coast Guard seeks a grantee to plan, implement, oversee, and conduct a National Recreational Boating Safety Outreach and Awareness Conference that supports the organizational objectives of the National Recreational Boating Safety Program. The overall conference focus should have promotional strategies with special focus on boat operators being responsible for their own safety as well as the safety of their passengers. Significant emphasis should be placed on offering multiple subjects that afford the participants professional development opportunities and educational enhancement. Subjects should focus on, but not be limited to: life jacket wear, safety and security issues, propeller injury prevention, the dangers of carbon monoxide, boater education, vessel safety, outreach and awareness efforts, as well as boating under the influence of alcohol or drugs. Point of Contact: Ms. Jo Calkin, 202-267-0994.

3. Federal/State Cooperative Partnering Efforts. The Coast Guard seeks a grantee to provide programs to encourage greater participation and uniformity in State boating safety efforts. Applicants would provide a forum to encourage greater uniformity of boating laws and regulations, reciprocity among jurisdictions, and closer cooperation and assistance in developing, administering, and enforcing Federal and State laws and regulations pertaining to boating safety. Point of Contact: Ms. Audrey Pickup, 202-267-0872.

4. Develop and Conduct Boating Accident Investigation Seminars. The Coast Guard seeks a grantee to develop, provide instructional material, and conduct training courses nationwide for boating accident investigators, including three courses at the U.S. Coast Guard's Maritime Law Enforcement Academy in Charleston, South Carolina. Point of Contact: Mr. Rick Gipe, 202-267-0985.

5. National Estimate of Personal Flotation Devices (PFDs) Wear Rate. The Coast Guard seeks a grantee to develop a statistically valid national estimate and evaluation of wear rates of PFDs by recreational boaters. Wear rates should be determined by actual observation of boaters. Point of Contact: Mr. Bruce Schmidt, 202-267-0955.

6. Develop New National Boating Survey Instrument and Methodology. The Coast Guard seeks a grantee to develop, in liaison with multiple recreational boating interests, a new national boating survey instrument and methodology. This instrument and methodology are to be developed in consensus with various boating safety, boating industry and boating user groups, as well as Federal agencies and academia. In November 2004, a collective group met in East Lansing, Michigan to discuss boating research, and to recommend the highest priority actions that need to take place in the area of recreational boating research. This grant project is to respond to the recommendations provided by the November 2004 meeting by developing a survey instrument and methodology that will be implemented by the Coast Guard at a later date. Boating safety will be considered the main topic for the survey. The survey may include research on other recreational boating topics supported by other survey partners. Point of Contact: Mr. Barry Nobles, 202-267-0986.

7. Voluntary Standards Development Support. The Coast Guard seeks a grantee to carry out a program to encourage active participation by members of the public and other qualified persons in the development of technically sound voluntary safety standards for boats and associated equipment. Point of Contact: Mr. Rick Gipe, 202-267-0985.

We encourage proposals addressing other boating safety concerns.

Potential grantees should focus on partnership, e.g., exploring other sources, linkages, in-kind contributions, cost sharing, and partnering with other organizations or corporations. The primary goal of the National Recreational Boating Safety Program is to reduce fatalities to specific levels for each upcoming year. With your application, we encourage you to list and describe the tools you will use to measure your grant's performance toward achieving this goal or toward achieving a specific objective that will result in the achievement of this goal. For some examples of tools, we invite you to explore this CDC Web site: http://www.cdc.gov/ncipe/pub-res/demonstr.htm.

Please note: We published a Notice of availability for FY05 funds on October 6, 2004, 69 FR 59943. In that Notice, we stated that it would be the final year that our office would publish a notice of availability of funding for national nonprofit public service organizations in the Federal Register. We stated that, under Department of Homeland Security policy, we would announce future availability of funding electronically, at the Web site: www.grants.gov. Because the FY06 Notice of Funds Availability is not yet available on that website, we are publishing the information in the Federal Register again this year to provide information to the public in a timely manner.

Dated: October 27, 2005.
Gary T. Blore,
Rear Admiral, U.S. Coast Guard, Director of Operations Policy.

[FR Doc. 05-21857 Filed 11-1-05; 8:45 am]

BILLING CODE 4910-15-P